DEPARTMENT OF TRANSPORTATION

Pipeline and Hazardous Materials Safety Administration

[Docket No: PHMSA-2022-0009]

Pipeline Safety: Information Collection Activities: Natural Gas Distribution Infrastructure Safety and Modernization Grant Program

AGENCY: Pipeline and Hazardous Materials Safety Administration (PHMSA), DOT.

ACTION: Notice and request for comments.

SUMMARY: In accordance with the Paperwork Reduction Act of 1995, PHMSA invites public comments on its intent to request Office of Management and Budget (OMB) three-year approval of an information collection titled: “The Natural Gas Distribution Infrastructure Safety and Modernization Grant Program” under OMB Control No. 2137-0641. The information collection enables eligible municipality and community-owned utilities (not including for-profit entities) to apply for grant assistance set forth under the heading “Department of Transportation—Pipeline and Hazardous Materials Safety Administration—Natural Gas Distribution Infrastructure Safety and Modernization Grant Program” in title VIII of division J of Public Law 117-58.

DATES: Interested persons are invited to submit comments on or before August 15, 2022.

ADDRESSES: Comments may be submitted in the following ways:

E-Gov Website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., ET, Monday through Friday, except federal holidays.

Instructions: Identify the docket number PHMSA-2022-0009 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of DOT, West Building, 1200 New Jersey Avenue SE, Washington, DC, between 9:00 a.m. and 5:00 p.m., ET, Monday through Friday, except federal holidays. If you wish to receive confirmation of receipt of your written comments, please include a self-addressed, stamped postcard with the following statement: “Comments on: PHMSA-2022-0009.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

Privacy Act Statement: DOT may solicit comments from the public regarding certain general notices. DOT posts these comments, without edit, including any personal information the commenter provides, to www.regulations.gov, as described in the system of records notice (DOT/ALL- 14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: Angela Hill by telephone at 202-366-1246 or by email at Angela.Hill@dot.gov.

SUPPLEMENTARY INFORMATION:

I. Background

On November 15, 2021, the Infrastructure Investment and Jobs Act (IIJA) (Pub. L. 117-58) was enacted. Under the heading “Department of Transportation—Pipeline and Hazardous Materials Safety Administration—Natural Gas Distribution Infrastructure Safety and Modernization Grant Program” in title VIII of division J, the Natural Gas Distribution Infrastructure Safety and Modernization Grant Program was established. The stated purpose of the program is for certain utilities “to repair, rehabilitate, or replace its natural gas distribution pipeline system or portions thereof or to acquire equipment to (1) reduce incidents and fatalities and (2) avoid economic losses” by providing grant opportunities to municipality and community-owned utilities (not including for-profit entities). The statutory requirements for PHMSA's implementation of the program are mandatory, and PHMSA is expected to implement the program as swiftly as possible to reduce incidents, fatalities, and adverse impacts to the public and the environment, particularly in disadvantaged communities.

The statutory requirements of the Natural Gas Distribution Infrastructure Safety and Modernization Grant Program established a 180-day deadline for DOT to publish a Notice of Funding Opportunity (NOFO) with a subsequent 270-day deadline for making awards. In an effort to meet the statutory deadlines, PHMSA published a Federal Register notice on April 6, 2022; (87 FR 20031) notifying the public of its plan to seek emergency OMB approval for this information collection. During the 10-day comment period, PHMSA received one (1) comment from Red Bay Water and Gas seeking a reimbursement grant for a cast iron replacement project that began in October 2021 and is projected to be completed by August 2022. PHMSA encourages all potential applicants to submit an application via www.grants.gov in response to the NOFO issued on March 24, 2022. The application closes on July 25, 2022.

On May 10, 2022, OMB granted PHMSA an emergency 6-month approval to collect the required information. PHMSA is publishing this notice, in compliance with the Paperwork Reduction Act of 1995, to give stakeholders an opportunity to comment on PHMSA's plan to request OMB's full three-year approval of this information collection.

II. Natural Gas Distribution Infrastructure Safety and Modernization Grant Program

Solicitation for grants under the Natural Gas Distribution Infrastructure Safety and Modernization Grant Program is voluntary. No eligible entity is required to apply. To be eligible, however, municipality and community-owned utilities must meet all the requirements set forth in the law. Therefore, DOT must collect certain information from applicants to determine eligibility and evaluate applications. DOT must also verify the accuracy of grant requests from approved applicants, in accordance with Title VI of the Civil Rights Act of 1964, Section 504 of the Rehabilitation Act of 1973, and other laws and regulations governing Federal financial assistance programs, including (but not limited to) the Anti-Deficiency Act, the Federal Funding Accountability and Transparency Act, the Payment Integrity Information Act of 2019, and 2 CFR part 200, among others. In accordance with the IIJA, DOT must not award more than 12.5 percent of the funds available under the Natural Gas Distribution Infrastructure Safety and Modernization Grant Program to a single municipality or community-owned utility.

DOT anticipates using grants.gov to collect the applicant information for the NOFO which will include the following information:

• Legal name of the applicant (i.e., the legal name of the business entity), as well as any other identities under which the applicant may be doing business.

• Business address, telephone, and email contact information for the applicant.

• Legal authority under which the applicant is established.

• Name and title of the authorized representative of the applicant (who will attest to the required certifications). DOT may also require the identity of external parties involved in preparation of the application, including outside accountants, attorneys, or auditors who may be assisting the business entity that is applying for assistance under this program.

• The specific statutory criteria that the applicant meets for eligibility under this program. The statute defines eligible applicants to include municipality or community-owned utilities excluding for-profit entities. Accordingly, DOT will require the applicant to identify which of these categories they meet and to describe how they meet it.

• Information regarding the possible environmental effects caused by the proposed project(s) specific to each site. Further, PHMSA will collect project information on (1) actions to comply with state and Federal environmental regulations, environmental justice, and historic preservation requirements, including the National Environmental Policy Act, and (2) additional mitigation actions to ensure that environmental impacts, such as those from excavation or the use of heavy equipment, are minimal.

• Location where the applicant was legally established, created, or organized to do business. This information and supporting documentation will be required to demonstrate how the applicant meets the statutory requirement to be “established, created, or organized in the United States or under the laws of the United States.”

• Other identification numbers, including but not limited to, the Employer/Taxpayer Identification Number, Unique Entity Identifier under 2 CFR part 25, etc. All applicants will be required to have pre-registered with the System for Award Management at https://sam.gov/SAM/.

• Description of the applicant's business operations, in sufficient detail to demonstrate how the applicant meets the statutory requirement as a municipality or community-owned utility.

• Whether the applicant is currently engaged in any legal proceeding that could jeopardize its ability to fulfill the legal commitments required in statute as conditions for receiving funds under the Natural Gas Distribution Infrastructure Safety and Modernization Grant Program. Examples of such proceedings could include, but are not limited to, any process related to the United States Bankruptcy Code, potential merger or acquisition discussions, or current litigation against the applicant. The NOFO will request that applicants identify any such issues at a high level and avoid including unnecessary details in the application.

• Whether the applicant is delinquent on any debt to any Federal agency, along with supporting details.

• A sworn certification as to the complete and accurate nature of all information provided, including all supporting documentation, subject to civil or criminal penalties. The specific certification language will include: “I certify under penalty of perjury that the information and certifications provided in the application and its attachments are true and correct. WARNING: Anyone who knowingly submits a false claim or makes a false statement is subject to criminal and/or civil penalties, including confinement for up to 5 years, fines, and civil penalties. (18 U.S.C. 287, 1001; 31 U.S.C. 3729, 3802).”

Award recipients will be required to provide supporting documentation in sufficient detail to substantiate the actual costs, specifically excluding any personally identifiable information for any individual employees. Recipients will also be required to provide additional information and certifications in support of disbursement requests.

III. Summary of Impacted Collection

Section 1320.8(d), Title 5, CFR, requires PHMSA to provide interested members of the public and affected entities an opportunity to comment on information collection and recordkeeping requests. This notice identifies the proposed information collection request that PHMSA will forward to OMB for approval.

The following information is provided for this information collection: (1) Title of the information collection; (2) OMB control number; (3) Current expiration date; (4) Type of request; (5) Abstract of the information collection activity; (6) Description of affected public; (7) Estimate of total annual reporting and recordkeeping burden; and (8) Frequency of collection.

PHMSA will request a three-year approval for this information collection. PHMSA requests comments on the following information:

Title: Natural Gas Distribution Infrastructure Safety and Modernization Grant Program.

OMB Control Number: 2137-0641.

Current Expiration Date: 11/30/2022.

Type of Request: Extension of an approved information collection.

Abstract: This information collection covers the collection of applicant data from municipality and community-owned utilities that are interested in applying to receive funds from the “Natural Gas Distribution Infrastructure Safety and Modernization Grant Program.” Solicitation for grants under the Natural Gas Distribution Infrastructure Safety and Modernization Grant Program is voluntary. No eligible entity is required to apply. To be eligible, however, municipality and community-owned utilities must meet all the requirements set forth in the law. Therefore, DOT must collect certain information from applicants to determine eligibility and evaluate applications. DOT must also verify the accuracy of grant requests from approved applicants, in accordance with Title VI of the Civil Rights Act of 1964, Section 504 of the Rehabilitation Act of 1973, and other laws and regulations governing Federal financial assistance programs, including (but not limited to) the Anti-Deficiency Act, the Federal Funding Accountability and Transparency Act (FFATA), the Payment Integrity Information Act of 2019, and 2 CFR part 200, among others. This information collection also covers the collection of data from grant recipients. PHMSA expects to receive approximately 200 applications from potential grantees. PHMSA estimates that it will take the 200 applicants approximately 82 hours to compile and submit the forms required to complete the application process for an annual burden of 16,400 hours. PHMSA estimates that 100 grant recipients will, on 8 occasions over the course of one year, spend 2.5 hours, or 20 hours annually, submitting post-award reports for an annual burden of 2,000 hours. Therefore, PHMSA estimates that there will be a total of 1,000 responses (200 applications + 800 post-award reports) for an aggregate total annual burden for the information collection of 18,400 hours (16,400 hours for applications + 2,000 hours for post-award reports).

Affected Public: Municipality and Community-owned Utilities.

Annual Burden:

Estimated number of responses: 1,000.

Estimated annual burden hours: 18,400.

Frequency of Collection: One-time application, grant reports no more than quarterly, to be followed by disbursement requests and closeout.

Comments are invited on:

(a) The need for this information collection for the proper performance of the functions of the Agency, including whether the information will have practical utility;

(b) The accuracy of the Agency's estimate of the burden of the proposed collection of information, including the validity of the methodology and assumptions used;

(c) Ways to enhance the quality, utility, and clarity of the information to be collected;

(d) Ways to minimize the burden of the collection of information on those who are to respond, including the use of appropriate automated, electronic, mechanical, or other technological collection techniques; and

(e) Additional information that would be appropriate to collect to inform the reduction in risk to people, property, and the environment due to excavation damages.

Authority: The Paperwork Reduction Act of 1995; 44 U.S.C. chapter 35, as amended.

Issued in Washington, DC, on June 10, 2022, under authority delegated in 49 CFR 1.97.
Alan K. Mayberry,
Associate Administrator for Pipeline Safety.

[FR Doc. 2022-12970 Filed 6-15-22; 8:45 am]

BILLING CODE 4910-60-P